DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On March 21, 2023, OFAC determined that the property and interests in property subject to U.S. jurisdiction of the following persons are blocked under the relevant sanctions authority listed below.

Entities

1. DEFENSE TECHNOLOGY AND SCIENCE RESEARCH CENTER (a.k.a. INSTITUTE FOR DEFENSE EDUCATION AND RESEARCH; a.k.a. MOASSESE AMOZESH VA TAHGHIGHATI; a.k.a. “DTSRC”; a.k.a. “MAVT CO.”), Pasdaran Avenue, P.O. Box 19585/777, Tehran, Iran; Additional Sanctions Information—Subject to Secondary Sanctions; Target Type Government Entity [NPWMD] [IFSR] (Linked To: MINISTRY OF DEFENSE AND ARMED FORCES LOGISTICS).

Designated pursuant to section 1(a)(iv) of E.O. 13382 for being owned or controlled by, or acting or purporting to act for or on behalf of, directly or indirectly, MINISTRY OF DEFENSE AND ARMED FORCES LOGISTICS, a person whose property and interests in property are blocked pursuant to E.O. 13382.

2. FARAZAN INDUSTRIAL ENGINEERING, INC. (a.k.a. FARAZAN CO., LTD.; a.k.a. FARAZAN COMPANY), Apt. 8, 4th Floor, No. 6, 2Th. Alley, Konoor Street, Motahari Avenue, Tehran, Iran; Additional Sanctions Information—Subject to Secondary Sanctions [NPWMD] [IFSR] (Linked To: DEFENSE TECHNOLOGY AND SCIENCE RESEARCH CENTER).

Designated pursuant to section 1(a)(iii) of E.O. 13382 for having provided, or attempted to provide, financial, material, technological or other support for, or goods or services in support of, DEFENSE TECHNOLOGY AND SCIENCE RESEARCH CENTER, a person whose property and interests in property are blocked pursuant to E.O. 13382.

3. OZONE HAVACILIK VE SAVUNMA SANAYI TICARET ANONIM SIRKETI (a.k.a. OZONE AIRCRAFT AND DEFENSE INDUSTRY LLC; a.k.a. OZONE AVIATION AND DEFENSE INDUSTRY INC.; a.k.a. OZONE HAVACILIK VE SAVUNMA SAN. TIC. AS; a.k.a. “OZONE HOBBY”), Umurbey Mah. Sehitler Cad. No Key Plaza: 18/42, Izmir, Turkey; Inonu Mah 4137 sok. No 12/12, Menemen, Izmir, Turkey; website www.ozonehobby.com; Additional Sanctions Information—Subject to Secondary Sanctions; Organization Established Date 09 Jul 2018; Tax ID No. 6500100199 (Turkey) [NPWMD] [IFSR] (Linked To: BUKEY, Murat).

Designated pursuant to section 1(a)(iv) of E.O. 13382 for being owned or controlled by, or acting or purporting to act for or on behalf of, directly or indirectly, Murat BUKEY, a person whose property and interests in property are blocked pursuant to E.O. 13382.

4. SELIN TECHNIC CO (a.k.a. SELIN TECHNIC KISH COMPANY), No. 118 NE. 1st Floor, Venoos Complex, Kish, Iran; Africa Avenue, between Mirdamad Avenue and Zafar Avenue, Yazdapanah Street, Number 40, Unit 7, Tehran, Iran; Additional Sanctions Information—Subject to Secondary Sanctions [NPWMD] [IFSR] (Linked To: PAIDAR, Amanallah).

Designated pursuant to section 1(a)(iii) of E.O. 13382 for having provided, or attempted to provide, financial, material, technological or other support for, or goods or services in support of, Amanallah PAIDAR, a person whose property and interests in property are blocked pursuant to E.O. 13382.

Dated: March 21, 2023.
Andrea Gacki,
Director, Office of Foreign Assets Control, U.S. Department of the Treasury.

[FR Doc. 2023-06105 Filed 3-23-23; 8:45 am]

BILLING CODE 4810-AL-P